FEDERAL COMMUNICATIONS COMMISSION

Notice of Public Information Collection(s) Being Reviewed by the Federal Communications Commission for Extension Under Delegated Authority

April 5, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments June 12, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214. If you would like to obtain or view a copy of this information collection, you may do so by visiting the FCC PRA Web page at: http://www.fcc.gov/omd/pra.

SUPPLEMENTARY INFORMATION: OMB Control No.: 3060-0790.

Title: Section 68.110(c), Availability of Inside Wiring Information.

Form No.: N/A.

Type of Review: Extension of a currently approved collection.

Respondents: Business or other for-profit.

Number of Respondents: 1,200.

Estimated Time Per Response: 1 hour.

Frequency of Response: Recordkeeping requirement and third party disclosure requirement.

Total Annual Burden: 1,200 hours.

Annual Cost Burden: $5,000.

Privacy Act Impact Assessment: N/A.

Needs and Uses: This collection will be submitted to the Office of Management and Budget (OMB) after this 60 day comment period as an extension (no change in requirements) in order to obtain the full three year clearance from them.

Section 68.110(c) requires telephone companies to provide building owners with all available information regarding carrier installed wiring on the customer's side of the demarcation point, including copies of existing schematic diagrams and service records. The information must be provided by the telephone company upon request of the building owner or agent thereof. The information is needed so that building owners may choose to contract with an installer of their choice for inside wiring maintenance and installation service, or elect to contract with the telephone company to modify existing wiring or assist with the installation of additional inside wiring.

OMB Control No.: 3060-0791.

Title: Accounting for Judgments and Other Costs Associated with Litigation, CC Docket No. 93-240.

Form No.: N/A.

Type of Review: Extension of a currently approved collection.

Respondents: Business or other for-profit.

Number of Respondents: 1.

Estimated Time Per Response: 36 hours.

Frequency of Response: On occasion reporting requirement and recordkeeping requirement.

Total Annual Burden: 36 hours.

Annual Cost Burden: N/A.

Privacy Act Impact Assessment: N/A.

Needs and Uses: This collection will be submitted to the Office of Management and Budget (OMB) after this 60 day comment period as an extension (no change in requirements) in order to obtain the full three year clearance from them.

In March 1997, the Commission established accounting rules that require carriers to account for adverse federal antitrust judgments and post-judgments special charges. To receive recognition of its avoided cost of litigation, a carrier must demonstrate, in a request for special relief, the avoided costs of litigation by showing the amount corresponding to the additional litigation expenses discounted to present value, that the carrier reasonably estimates it would have paid if it had not settled. A carrier requesting recovery of the avoided costs of litigation must accompany its request with clear and convincing evidence that, without the settlement, it would have incurred the expenses it estimates. The evidence will vary according to the circumstances.

Federal Communications Commission.
Marlene H. Dortch,
Secretary.

[FR Doc. E6-5273 Filed 4-11-06; 8:45 am]

BILLING CODE 6712-01-P